FEDERAL COMMUNICATIONS COMMISSION

Notice of Public Information Collection(s) Being Reviewed by the Federal Communications Commission, Comments Requested

December 10, 2003.

SUMMARY: The Federal Communications Commission, as part of its continuing effort to reduce paperwork burden invites the general public and other Federal agencies to take this opportunity to comment on the following information collection(s), as required by the Paperwork Reduction Act (PRA) of 1995, Public Law No. 104-13. An agency may not conduct or sponsor a collection of information unless it displays a currently valid control number. No person shall be subject to any penalty for failing to comply with a collection of information subject to the Paperwork Reduction Act that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before February 17, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION:

OMB Control No.: 3060-1046.

Title: Implementation of the Pay Telephone Reclassification and Compensation Provisions of the Telecommunications Act of 1996, CC Docket No. 96-128, Report and Order.

Form No.: N/A.

Type of Review: Revision of a currently approved collection.

Respondents: Business or other for-profit.

Number of Respondents: 1,023 respondents; 7,140 responses.

Estimated Time Per Response: 100 hours.

Frequency of Response: Quarterly reporting requirement, third party disclosure requirement, and recordkeeping requirement.

Total Annual Burden: 714,000 hours.

Total Annual Cost: N/A.

Needs and Uses: The Commission issued a Report and Order in CC Docket No. 96-128, FCC 03-235, in which final rules were adopted that altered the previous payphone compensation rules. The new rules place the liability to compensate payphone service providers (PSPs) for payphone-originated calls on the facilities-based long distance carriers from whose switches such calls are completed. The new rules were not put in effect immediately to allow industry time to prepare for implementation of the new rules. Accordingly, the Order adopted interim rules initially adopted in the Second Order on Reconsideration until the new rules outlined in CC Docket No. 96-128 become effective. The interim rules received OMB approval on 11/14/03 and are currently in effect. The Commission is now seeking OMB approval of the final rules. The interim rules will be vacated and the new rules will go into effect on the first day of the next full quarter following the date of OMB approval.

OMB Control No.: 3060-0894.

Title: Certification Letter Accounting for Receipt of Federal Support—CC Docket Nos. 96-45 and 96-262.

Form No.: N/A.

Type of Review: Revision of a currently approved collection.

Respondents: State, local or tribal government.

Number of Respondents: 52.

Estimated Time Per Response: 3-5 hours.

Frequency of Response: On occasion and annual reporting requirements.

Total Annual Burden: 162 hours.

Total Annual Cost: N/A.

Needs and Uses: The Commission requires states to certify that carriers within the state had accounted for its receipt of federal support in its rates or otherwise used the support pursuant with Section 254(e). In an Order on Remand, the Commission modifies the high-cost universal service support mechanism for non-rural carriers and adopts measures to induce states to ensure reasonable comparability of rural and urban rates in areas served by non-rural carriers.

Federal Communications Commission.
Marlene H. Dortch,
Secretary.

[FR Doc. 03-31155 Filed 12-17-03; 8:45 am]

BILLING CODE 6712-01-P